DEPARTMENT OF ENERGY

Federal Energy Regulatory Commission

Combined Notice of Filings #1

Take notice that the Commission received the following electric corporate filings:

Docket Numbers: EC15-62-000.

Applicants: Roth Rock Wind Farm, LLC, Roth Rock North Wind Farm, LLC.

Description: Application for Authorization under Section 203 of the Federal Power Act and Request for Waivers, Confidential Treatment, and Expedited Consideration of Roth Rock Wind Farm, LLC and Roth Rock North Wind Farm, LLC.

Filed Date: 1/21/15.

Accession Number: 20150121-5255.

Comments Due: 5 p.m. ET 2/11/15.

Docket Numbers: EC15-63-000.

Applicants: TPW Petersburg, LLC.

Description: Application for Authorization under Section 203 of the Federal Power Act and Request for Waivers, Confidential Treatment, and Expedited Consideration of TPW Petersburg, LLC.

Filed Date: 1/21/15.

Accession Number: 20150121-5259.

Comments Due: 5 p.m. ET 2/11/15.

Take notice that the Commission received the following electric rate filings:

Docket Numbers: ER11-1881-000; ER11-1882-000; ER11-1883-000; ER11-1885-000; ER11-1886-000; ER11-1887-000; ER11-1889-000; ER11-1890-000; ER11-1892-000; ER11-1893-000; ER11-1894-000.

Applicants: Burley Butte Wind Park, LLC, Golden Valley Wind Park, LLC, Milner Dam Wind Park, LLC, Oregon Trail Wind Park, LLC, Pilgrim Stage Station Wind Park, LLC, Thousand Springs Wind Park, LLC, Tuana Gulch Wind Park, LLC, Camp Reed Wind Park, LLC, Payne's Ferry Wind Park, LLC, Salmon Falls Wind Park, LLC, Yahoo Creek Wind Park, LLC.

Description: Notice of Non-Material Change in Status of Burley Butte Wind Park, LLC, et. al.

Filed Date: 1/21/15.

Accession Number: 20150121-5262.

Comments Due: 5 p.m. ET 2/11/15.

Docket Numbers: ER13-2477-006; ER10-1946-009; ER11-3859-011; ER13-2476-006; ER11-3861-010; ER11-3864-012; ER13-2475-006; ER11-3866-011; ER12-192-009; ER11-3867-011; ER11-3857-011; ER11-4266-010; ER10-3310-007; ER10-3286-007; ER10-3299-006; ER13-1485-003; ER10-3253-003; ER14-1777-002; ER10-3237-003; ER87-592-001; ER10-3240-003; ER10-3230-003; ER10-3231-002; ER87-203-001; ER10-3232-001; ER10-3233-002; ER10-3239-003.

Applicants: Brayton Point Energy, LLC, Broad River Energy LLC, Dighton Power, LLC, Elwood Energy, LLC, Empire Generating Co, LLC, EquiPower Resources Management, LLC, Kincaid Generation, L.L.C., Lake Road Generating Company, L.P., Liberty Electric Power, LLC, MASSPOWER, Milford Power Company, LLC, Richland-Stryker Generation LLC, New Harquahala Generating Company, LLC, Millennium Power Partners, L.P., New Athens Generating Company, LLC, Wheelabrator Baltimore, L.P., Wheelabrator Bridgeport, L.P., Wheelabrator Falls Inc., Wheelabrator Frackville Energy Company Inc., Wheelabrator Millbury Inc., Wheelabrator North Andover Inc., Wheelabrator Portsmouth Inc., Wheelabrator Ridge Energy Inc., Wheelabrator Saugus Inc., Wheelabrator Shasta Energy Company Inc., Wheelabrator South Broward Inc., Wheelabrator Westchester L.P.

Description: Notice of Change in Status of the ECP MBR Sellers under ER13-2477, et. al.

Filed Date: 1/20/15.

Accession Number: 20150120-5652.

Comments Due: 5 p.m. ET 2/10/15.

Docket Numbers: ER14-1933-002.

Applicants: Headwaters Wind Farm LLC.

Description: Notice of Non-Material Change in Status of Headwaters Wind Farm LLC.

Filed Date: 1/21/15.

Accession Number: 20150121-5224.

Comments Due: 5 p.m. ET 2/11/15.

Docket Numbers: ER15-502-000.

Applicants: Bayou Cove Peaking Power, LLC.

Description: Supplement to November 26, 2014 Bayou Cove Peaking Power, LLC tariff filing.

Filed Date: 1/21/15.

Accession Number: 20150121-5253.

Comments Due: 5 p.m. ET 2/11/15.

Docket Numbers: ER15-888-000.

Applicants: Tampa Electric Company.

Description: § 205(d) rate filing per 35.13(a)(2)(iii): Amendment of Cost-Based Power Sales Tariff—App B to be effective 3/24/2015.

Filed Date: 1/22/15.

Accession Number: 20150122-5053.

Comments Due: 5 p.m. ET 2/12/15.

Docket Numbers: ER15-889-000.

Applicants: Wabash Valley Power Association, Inc.

Description: Tariff Withdrawal per 35.15: Wabash Valley Power Association, Inc.—Submission of Notice of Cancellation to be effective 12/31/2014.

Filed Date: 1/22/15.

Accession Number: 20150122-5061.

Comments Due: 5 p.m. ET 2/12/15.

Take notice that the Commission received the following electric securities filings:

Docket Numbers: ES15-7-000.

Applicants: Southwestern Electric Power Company.

Description: Supplement to December 18, 2014 Application under Section 204 of the Federal Power Act for Authorization to Issue Securities of Southwestern Electric Power Company.

Filed Date: 1/20/15.

Accession Number: 20150120-5630.

Comments Due: 5 p.m. ET 1/30/15.

Docket Numbers: ES15-8-000.

Applicants: MidAmerican Energy Company.

Description: Errata to January 13, 2015 Application of MidAmerican Energy Company pursuant to Section 204 of the Federal Power Act.

Filed Date: 1/14/15.

Accession Number: 20150114-5214.

Comments Due: 5 p.m. ET 2/4/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 22, 2015.
Nathaniel J. Davis, Sr.,
Deputy Secretary.

[FR Doc. 2015-01649 Filed 1-28-15; 8:45 am]

BILLING CODE 6717-01-P